DEPARTMENT OF COMMERCE

International Trade Administration

[A-570-884]

Certain Color Television Receivers From the People's Republic of China: Rescission of Antidumping Duty Administrative Review

AGENCY: Import Administration, International Trade Administration, Department of Commerce.

SUMMARY: In response to a request from petitioner Five Rivers Electronic Innovations, LLC, (“Five Rivers” or “petitioner”), the Department of Commerce (“the Department”) initiated an administrative review of the antidumping duty order on certain color television receivers (“CTVs”) from the People's Republic of China (“PRC”). See Initiation of Antidumping and Countervailing Duty Administrative Reviews and Request for Revocation in Part, 73 FR 44220 (July 30, 2008). This administrative review covers the June 1, 2007, through May 31, 2008 period of review (“POR”). Due to the withdrawal of the request for the administrative review by Five Rivers for all companies for which it requested a review, we are now rescinding this review, pursuant to 19 CFR 351.213(d)(1).

DATES: Effective Date: October 2, 2008.

FOR FURTHER INFORMATION CONTACT: Karine Gziryan or Zhulieta Willbrand, AD/CVD Operations, Office 4, Import Administration, International Trade Administration, U.S. Department of Commerce, 14th Street and Constitution Avenue, NW., Washington, DC 20230; telephone: (202) 482-4081 or (202) 482-3147, respectively.

SUPPLEMENTARY INFORMATION:

Background

On June 25, 2004, the Department published in the Federal Register the amended antidumping duty order on certain color television receivers from the PRC. See Notice of Amended Antidumping Duty Order: Certain Color Television Receivers from the People's Republic of China, 69 FR 35583 (June 25, 2004) (“Order”). On June 9, 2008, the Department published a notice of “Opportunity to Request an Administrative Review” of the Order for the POR. See Antidumping or Countervailing Duty Order, Finding, or Suspended Investigation; Opportunity To Request Administrative Review, 73 FR 32557, 32558 (June 9, 2008). On June 26, 2008, the petitioner requested that the Department conduct an administrative review of sales of merchandise by the following 13 companies: Haier Electric Appliances International Co., Hisense Import and Export Co., Ltd., Konka Group Company, Ltd., Philips Consumer Electronics Co. of Suzhou Ltd., Shenzhen Chaungwei-RGB Electronics Co., Ltd., Sichuan Changhong Electric Co., Ltd., Starlight International Holdings, Ltd., Star Light Electronics Co., Ltd., Star Fair Electronics Co., Ltd., Starlight Marketing Development Ltd., SVA Group Co., Ltd., TCL Holding Company Ltd., and Xiamen Overseas Chinese Electronic Co., Ltd. In response to this request, the Department published the initiation of the antidumping duty administrative review on certain color television receivers from the PRC on July 30, 2008. See Initiation of Antidumping and Countervailing Duty Administrative Reviews and Request for Revocation in Part, 73 FR 44220, 44221 (July 30, 2008). No other party requested a review.

On August 18, 2008, TCL Multimedia Technology Holdings Ltd., a PRC producer of subject merchandise, and its wholly-owned U.S. subsidiary, TTE Technology, Inc., a U.S. importer of subject merchandise, (collectively, “TCL”), submitted a letter in which it claimed that the subject merchandise it entered for consumption during the review period was re-exported to Canada and not sold within the United States to unaffiliated customers. For this reason, it requested that the Department rescind the review with respect to TCL and liquidate TCL's entries during the review period without regard to antidumping duties. TCL repeated its request on September 23, 2008.

On August 21, 2008, Xiamen Overseas Chinese Electronic Co., Ltd. (“Xiamen”) provided a submission in which it alleged that this administrative review should be terminated because the review request was not made by a domestic interested party as required by the Department's regulations. According to Xiamen, the petitioner filed for bankruptcy in October 2004, and has not produced CTVs in the United States in nearly two years. Since the petitioner did not produce CTVs during the review period, Xiamen argued that it is not entitled to request an administrative review of this order.

On September 17, 2008, petitioner withdrew its request of review of all companies for which it requested review.

Rescission of the Administrative Review

Pursuant to 19 CFR 351.213(d)(1), the Secretary will rescind an administrative review under this section, in whole or in part, if a party that requested a review withdraws the request within 90 days of the date of publication of notice of initiation of the requested review. Petitioner withdrew its requests for review for all companies within the 90-day time limit. No other company had requested a review of these or any other companies. Therefore, in response to the withdrawal of requests for administrative reviews by petitioner, the Department hereby rescinds the administrative review of the antidumping duty order on certain color television receivers from the PRC for the period June 1, 2007, through May 31, 2008, for all 13 companies listed above. For companies that have a separate rate, the Department intends to issue assessment instructions to the U.S. Customs and Border Protection (“CBP”) 15 days after the date of publication of this notice. Since this is a full rescission of the administrative review, we will also issue liquidation instructions for the PRC-wide entity to CBP 15 days after the date of publication of this notice.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 777(i)(1) of the Tariff Act of 1930, as amended, and 19 CFR 351.213(d)(4).

Dated: September 26, 2008.
Stephen J. Claeys,
Deputy Assistant Secretary for Import Administration.

[FR Doc. E8-23272 Filed 10-1-08; 8:45 am]

BILLING CODE 3510-DS-P